DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Data System for Organ Procurement and Transplantation Network (42 CFR Part 121, OMB No. 0915-0184): Revision

The operation of the Organ Procurement and Transplantation Network (OPTN) necessitates certain recordkeeping and reporting requirements in order to perform the functions related to organ transplantation under contract to HHS. This is a request for an extension of the current record keeping and reporting requirements associated with the OPTN. These data will be used by HRSA in monitoring the contracts for the OPTN and the Scientific Registry of Transplant Recipients (SRTR) and in carrying out other statutory responsibilities. Information is needed to match donor organs with recipients, to monitor compliance of member organizations with OPTN rules and requirements, and to ensure that all qualified entities are accepted for membership in the OPTN.

Estimated Annual Reporting and Record Keeping Burden
Section and activity | Number of respondents | Responses per respondent | Total responses | Hours per response | Total burden hours
121.3(b)(2) OPTN membership and application requirements for OPOs, hospitals, and histocompatibility laboratories | 30 | 1 | 30 | 40 | 1,200
121.6(c) (Reporting) Submitting criteria for organ acceptance | 900 | 1 | 900 | 0.5 | 450
121.6(c) (Disclosure) Sending criteria to OPOs | 900 | 1 | 900 | 0.5 | 450
121.7(b)(4) Reasons for Refusal | 900 | 38 | 34,200 | 0.5 | 17,100
121.7(e) Transplant to prevent organ wastage | 278 | 1.5 | 417 | 0.5 | 209
121.9(b) Designated Transplant Program Requirements | 10 | 1 | 10 | 5.0 | 50
Total | 944 |  | 36,457 |  | 19,459

Written comments and recommendations concerning the proposed information collection should be sent within 30 days of this notice to: Desk Officer, Health Resources and Services Administration, Human Resources and Housing Branch, Office of Management and Budget, New Executive Office Building, Room 10235, Washington, DC 20503.

Dated: June 1, 2004.
Tina M. Cheatham,
Director, Division of Policy Review and Coordination.

[FR Doc. 04-12890 Filed 6-7-04; 8:45 am]

BILLING CODE 4165-15-P